INTERNATIONAL TRADE COMMISSION

[USITC SE-15-039]

Sunshine Act Meeting

AGENCY HOLDING THE MEETING: United States International Trade Commission.

TIME AND DATE: November 18, 2015 at 11:00 a.m.

PLACE: Room 101, 500 E Street SW., Washington, DC 20436, Telephone: (202) 205-2000.

STATUS: Open to the public

MATTERS TO BE CONSIDERED: 1. Agendas for future meetings: None.

2. Minutes.

3. Ratification List.

4. Vote in Inv. No. 701-TA-530 (Final) (Supercalendered Paper from Canada). The Commission is currently scheduled to complete and file its determination and views of the Commission on December 1, 2015.

5. Vote in Inv. Nos. 701-TA-473 and 731-TA-1173 (Review) (Potassium Phosphate Salts from China). The Commission is currently scheduled to complete and file its determinations and views of the Commission on December 4, 2015.

6. Outstanding action jackets: None.

In accordance with Commission policy, subject matter listed above, not disposed of at the scheduled meeting, may be carried over to the agenda of the following meeting.

Issued: November 12, 2015.
By order of the Commission.
William R. Bishop,
Supervisory Hearings and Information Officer.

[FR Doc. 2015-29334 Filed 11-12-15; 4:15 pm]

BILLING CODE 7020-02-P